DEPARTMENT OF THE INTERIOR

National Park Service

Draft Environmental Impact Statement for the Lake Management Plan; Lake Mead National Recreation Area, Mohave County, AZ and Clark County, NV; Notice of Availability

SUMMARY: Pursuant to section 102(2)(C) of the National Environmental Policy Act of 1969 (Public Law 91-190, as amended), and the Council on Environmental Quality Regulations (40 CFR part 1500-1508), the National Park Service (NPS), Department of the Interior, has prepared a draft environmental impact statement (DEIS) assessing the potential impacts of the proposed Lake Management Plan for Lake Mead National Recreation Area. The DEIS describes and analyzes four alternatives to improve the management of Lakes Mead and Mohave to provide for the long-term protection of park resources while allowing a range of recreational opportunities to support visitor needs.

Specifically, this environmental impact statement evaluates four alternatives for managing the waters and associated shoreline areas of Lake Mead National Recreation Area. Each alternative identifies proposed actions related to recreational opportunity zoning and shoreline zoning, developed areas, facilities and recreational services, recreational conflicts, sanitation and litter, resource protection, and park operations.

This document also is used to make reasoned decisions about whether to continue personal watercraft use at Lake Mead NRA. NPS will make the determination based on the unit's enabling statute, mission, management objectives, resources, values, and other uses, as well as impacts from personal watercraft on the unit (65 FR 15,078—2000). In addition, this DEIS evaluates personal watercraft use within Lake Mead National Recreation Area. Consistent with Bluewater Network v. Stanton, No. CV02093 (D.D.C. 2000) and the settlement agreement approved by the court on April 11, 2001, the DEIS includes an evaluation of various personal watercraft use alternatives to determine their effects on water quality, air quality, soundscapes, wildlife, wildlife habitat, shoreline vegetation, visitor conflicts, safety, and other appropriate topics.

Scoping

Public meetings were initiated in January, 1993 to solicit early input into the scope and range of issues to be analyzed. A notice of intent announcing the decision to prepare the Lake Management Plan and Environmental Impact Statement was published in the Federal Register on May 3, 1993. Between January 1993 and September 2000, a series of public scoping meetings were held throughout the area to solicit early input into the scope and range of issues to be analyzed. Scoping comments continued to be accepted and considered until December 2001.

During this comment period, the NPS facilitated over 100 discussions and briefings to park staff, congressional delegations, elected officials, tribal representatives, public service organizations, educational institutions, and other interested members of the public. Nearly 1,000 letters concerning the DEIS planning process were received. The major issues raised during this period are summarized in Chapter 1, Purpose and Need for the Action.

Proposed Plan and Alternatives

The DEIS includes three “action” alternative and one “no action” (existing conditions) alternative. Under all the action alternatives, a Special Regulation would be promulgated to address the continued use of personal watercraft in the recreation area, in accordance with settlement agreement signed by the United States District Court for the District of Columbia on April 12, 2001. This agreement between the NPS and Bluewater Network requires all park units wishing to continue personal watercraft use to promulgate special regulations after an environmental analysis is conducted in accordance with the 1969 National Environmental Policy Act.

Alternative A: No Action, evaluates the impacts from the continuation of the present management direction, as established by the 1986 General Management Plan for Lake Mead NRA. Under this alternative, the lakes would be managed for rural and urban recreational settings, with no restrictions on motorized use except where specifically marked by buoys. Management zoning of recreational activities would continue in the Boulder Beach (Lake Mead) and Katherine Landing (Lake Mohave) areas. Facility expansion authorized under the General Management Plan would occur as funding and resources become available. No new measures to improve water quality and shoreline sanitation would be implemented. No special regulations related to personal watercraft use would be promulgated, therefore, personal watercraft use would be prohibited after September 15, 2002. No regulation would be promulgated to restrict the use of two-stroke engines.

Alternative B emphasizes the primitive recreational opportunity for visitors, imposing the most limits on motorized water recreation, and furnishing the greatest opportunity for solitude. Development would be capped at existing levels, and some uses, such as overnight camping, may be reduced or eliminated from some areas. A boat carrying capacity would be established for both lakes and a 100-foot wakeless zone would be established along the shoreline of the lakes. Boater education would be offered, but not required. The use of portable toilets would be voluntary. The Environmental Protection Agency regulation requiring the marine industry to improve the efficiency of engines by the year 2006 would be adopted at Lake Mead NRA. The NPS would develop a new regulation requiring the exclusive use of the new direct-injection two-stroke engines, or the equivalent, for motorized vessels within one year of the approval of this plan.

Alternative C, the preferred alternative, slightly increases the overall level of boating activity. Primitive and semi-primitive areas would comprise about 2 percent of the water surface area. Facility expansion could occur at several existing developed areas: Cottonwood Cove on Lake Mohave and Overton Beach, Echo Bay, Callville Bay and Temple Bar on Lake Mead. Additional public launch facilities could be constructed at Eldorado Canyon along Lake Mohave, and at Stewarts Point on Lake Mead. This alternative also proposes the construction of an access road to improve lake access from Northshore Road. Carrying capacities would be used to reduce crowding. Shoreline zoning to separate recreational uses would be further developed at the Boulder Basin and Katherine Landing areas and a 100-foot wakeless zone would be established along the shoreline of the lakes. The NPS would work with the states to develop uniform boating laws and mandatory boater education programs. Alcohol consumption while operating a boat would be prohibited. Sanitation and public education requirements would be implemented and a clean-up program initiated. Glass containers and styrofoam would be prohibited within the park. The Environmental Protection Agency regulation requiring the marine industry to improve the efficiency of engines by the year 2006 would be adopted at Lake Mead NRA. The NPS would develop a new regulation requiring the exclusive use of the new direct-injection two-stroke engines, or the equivalent, for motorized vessels starting in 2012.

Alternative D, proposes managing the waters of the recreation area for concentrated use. A greater percentage of the lakes would be designated as urban park, with no areas designated as primitive or semi-primitive. Facility expansion could occur at several existing developed areas: Cottonwood Cove on Lake Mohave and Overton Beach, Echo Bay, Callville Bay and Temple Bar on Lake Mead. Additional public launch facilities could be constructed at Eldorado Canyon along Lake Mohave, and at Stewarts Point on Lake Mead. Marina expansion would increase the number of slips proposed in Alternative C. Shoreline zoning would be mandatory and exclusive. A 300-foot wakeless zone would be established along the shoreline of the lakes. This alternative would have the same boater education and shoreline sanitation requirements as the proposed action. Alcohol and glass containers would be banned from the recreation area. No regulation would be promulgated to restrict the use of two-stroke engines.

Comments

The DEIS is now available for public review. Interested persons and organizations wishing to express any concerns or provide relevant information are encouraged to contact the Superintendent, Lake Mead National Recreation Area, 601 Nevada Way, Boulder City, Nevada 89005, or via telephone at (702) 293-8986. A postcard will be sent to agencies and individuals notifying them of the availability of the DEIS. The document may be obtained from the park (printed copy or CD copy); it is also available at area libraries, or electronically via the Lake Mead National Recreation Area Web site www.nps.gov/lame/LMPdraft/home.htm.

All written comments must be postmarked no later than 60 days from the date the Environmental Protection Agency posts its notice of filing in the Federal Register. The end date for the comment period is not known at this time. Immediately upon determination of this end date, a postcard will be sent to agencies and individuals on the mailing list, and it will be announced on the park Web site.

If individuals submitting comments request that their name or/and address be withheld from public disclosure, it will be honored to the extent allowable by law. Such requests must be stated prominently in the beginning of the comments. There also may be circumstances wherein the NPS will withhold a respondent's identity as allowable by law. As always: NPS will make available to public inspection all submissions from organizations and business; and, anonymous comments may not be considered.

Public Meetings

The NPS will conduct several public meetings to facilitate public review and comment on the DEIS. Although the logistics for these meetings are not yet confirmed, NPS will make this information available in the near future through press releases and via the park Web site. Current details on meeting locations, times, and dates can also be obtained by contacting Park Planner, Jim Holland, at the above address, or by telephone at (702) 293-8986.

Decision

Following the formal DEIS review period, comments received will be considered in preparing the Final EIS (FEIS). The FEIS is anticipated to be completed during summer 2002—its availability will be similarly announced in the Federal Register. As this is a delegated EIS, the official responsible for the final decision is the Regional Director, Pacific West Region. The Record of Decision may be approved by the Regional Director not sooner than 30 days after the release of the FEIS; subsequently the official responsible for implementation would be the Superintendent, Lake Mead National Recreation Area.

Dated: April 17, 2002.
Holly Bundock,
Acting Regional Director, Pacific West Region.

[FR Doc. 02-10027 Filed 4-23-02; 8:45 am]

BILLING CODE 4310-70-P